DEPARTMENT OF HOMELAND SECURITY

Coast Guard

33 CFR Part 117

[Docket No. USCG-2016-1056]

Drawbridge Operation Regulation; Calcasieu River, Westlake, LA

AGENCY: Coast Guard, DHS.

ACTION: Notice of deviation from drawbridge regulations.

SUMMARY: The Coast Guard has issued a temporary deviation from the operating schedule that governs the Westlake Bridge across the Calcasieu River, mile 36.4, at Westlake, Calcasieu Parish, Louisiana. The deviation is necessary to repair and replace the existing lift rails and actuators on the east end of the bridge. These repairs are essential for the continued safe operation of the bridge. This deviation allows the bridge to remain closed-to-navigation for a total of 36 hours on four different dates in December 2016 and January 2017.

DATES: This temporary deviation is effective from 6 a.m. on Sunday, December 25, 2016 through noon on Monday, January 2, 2017, as discussed in greater detail below.

ADDRESSES: The docket for this deviation, [USCG-2016-1056] is available at http://www.regulations.gov. Type the docket number in the “SEARCH” box and click “SEARCH”. Click on Open Docket Folder on the line associated with this deviation.

FOR FURTHER INFORMATION CONTACT: If you have questions on this temporary deviation, call or email Giselle MacDonald, Bridge Administration Branch, Coast Guard, telephone (504) 671-2128, email Giselle.T.MacDonald@uscg.mil.

SUPPLEMENTARY INFORMATION: The Union Pacific Railroad requested a temporary deviation from the operating schedule of the Westlake Swing-Span Bridge across the Calcasieu River, mile 36.4, at Westlake, Calcasieu Parish, Louisiana.

The vertical clearance of the bridge is 1.07 feet above Mean High Water, elevation 3.56 feet Mean Gulf Level in the closed-to-navigation position and unlimited in the open-to-navigation position. The bridge will not be able to open for emergencies and there are no alternate routes available. Navigation on the waterway consists of tugs with tows, fishing vessels and recreational craft. These closures will not have a significant effect on vessels that use the waterway in the determination and coordination with waterway users.

In accordance with 33 CFR 117.5, the draw shall open on signal for the passage of vessels. This deviation allows the drawbridge to remain in the closed-to-navigation position for 36 hours, from 6 a.m. through 6 p.m. on Sunday, December 25, 2016; from 6 a.m. through noon on Monday, December 26, 2016; from 6 a.m. through 6 p.m. on Sunday, January 1, 2017; and from 6 a.m. through noon on Monday, January 2, 2017.

In accordance with 33 CFR 117.35(e), the drawbridge must return to its regular operating schedule immediately at the end of the effective period of this temporary deviation. This deviation from the operating regulations is authorized under 33 CFR 117.35.

Dated: December 14, 2016.
David M. Frank,
Bridge Administrator, Eighth Coast Guard District.

[FR Doc. 2016-30576 Filed 12-19-16; 8:45 am]

BILLING CODE 9110-04-P